OFFICE OF PERSONNEL MANAGEMENT

5 CFR Part 532

RIN 3206-AM33

Prevailing Rate Systems; Redefinition of the Northeastern Arizona and Southern Colorado Appropriated Fund Federal Wage System Wage Areas

AGENCY: U.S. Office of Personnel Management.

ACTION: Final rule.

SUMMARY: The U.S. Office of Personnel Management is issuing a final rule to redefine the geographic boundaries of the Northeastern Arizona and Southern Colorado appropriated fund Federal Wage System (FWS) wage areas. The final rule redefines Dolores, Montrose, Ouray, San Juan, and San Miguel Counties, CO, and the Curecanti National Recreation Area portion of Gunnison County, CO, from the Southern Colorado wage area to the Northeastern Arizona wage area. These changes are based on consensus recommendations of the Federal Prevailing Rate Advisory Committee to best match the above counties to a nearby FWS survey area.

DATES: This regulation is effective on August 22, 2011.

FOR FURTHER INFORMATION CONTACT: Madeline Gonzalez, (202) 606-2838; e-mail pay-leave-policy@opm.gov; or Fax: (202) 606-4264.

SUPPLEMENTARY INFORMATION: On February 22, 2011, the U.S. Office of Personnel Management (OPM) issued a proposed rule (76 FR 9694) to redefine Dolores, Montrose, Ouray, San Juan, and San Miguel Counties, CO, and the Curecanti National Recreation Area portion of Gunnison County, CO, from the Southern Colorado wage area to the Northeastern Arizona wage area. The proposed rule had a 30-day comment period during which OPM received no comments.

The Federal Prevailing Rate Advisory Committee (FPRAC), the national labor-management committee responsible for advising OPM on matters concerning the pay of FWS employees, recommended these changes by consensus. FPRAC recommended no other changes in the geographic definitions of the Northeastern Arizona and Southern Colorado wage areas.

CFR Correction

In addition, this final rule deletes Pitkin County, CO, as an area of application county in the Southern Colorado wage area. OPM redefined Pitkin County as part of the area of application of the Denver, CO, wage area in a final rule published in 2000 (65 FR 26119). However, Pitkin County continues to incorrectly appear listed as an area of application county in the Southern Colorado wage area. The Denver wage area correctly lists Pitkin County as one of its area of application counties.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Northeastern Arizona and Southern Colorado wage areas to read as follows:

Appendix C to Subpart B of Part 532—Appropriated Fund Wage and Survey Areas

* * * * *

Arizona
Northeastern Arizona
Survey Area
Arizona:
Apache
Coconino
Navajo
New Mexico:
McKinley
San Juan
Area of Application. Survey area plus:
Colorado:
Dolores
Gunnison (Only includes the Curecanti National Recreation Area portion)
La Plata
Montezuma
Montrose
Ouray
San Juan
San Miguel
Utah:
Kane
San Juan (Does not include the Canyonlands National Park portion)
* * * * *
Colorado
* * * * *
Southwestern Colorado
Survey Area
Colorado:
El Paso
Pueblo
Teller
Area of Application. Survey area plus:
Colorado:
Alamosa
Archuleta
Baca
Bent
Chaffee
Cheyenne
Conejos
Costilla
Crowley
Custer
Delta
Fremont
Gunnison (Does not include the Curecanti National Recreation Area portion)
Hinsdale
Huerfano
Kiowa
Kit Carson
Las Animas
Lincoln
Mineral
Otero
Prowers
Rio Grande
Saguache
* * * * *

[FR Doc. 2011-18533 Filed 7-21-11; 8:45 am]

BILLING CODE 6325-39-P